DEPARTMENT OF ENERGY

Federal Energy Regulatory Commission

[Docket Nos. EL08-91-000; ER08-1057-000]

Arkansas Electric Cooperative Corporation, Mississippi Delta Energy Agency, and South Mississippi Electric Power Association, Complainant, v. Entergy Services, Inc., Respondent; Entergy Services, Inc.; Notice of Complaint

September 29, 2008.

Take notice that on September 26, 2008, Arkansas Electric Cooperative Corporation, Mississippi Delta Energy Agency and its two members, the Clarksdale Public Utilities Commission of the City of Clarksdale, Mississippi and the Public Service Commission of Yazoo City of the City of Yazoo City, Mississippi, and South Mississippi Electric Power Association (Complainant), pursuant to sections 206, 306 and 309 of the Federal Power Act, 16 U.S.C. 824e, 825e, and 825h, and Rules 206 and 212 of the Commission's Rules of Practice and Procedure, 18 CFR 385.206, 385.212, filed a formal complaint and motion for consolidation against Entergy Services, Inc. (Respondent) alleging that, the Respondent's 2008 transmission rate redetermination would impose rates that are unjust and unreasonable in violation of the Federal Power Act.

Joint Complainants certify that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 16, 2008.

Nathaniel J. Davis, Sr.,
Deputy Secretary.

[FR Doc. E8-23360 Filed 10-2-08; 8:45 am]

BILLING CODE 6717-01-P